DEPARTMENT OF HEALTH AND HUMAN SERVICES

National Institutes of Health

Center for Scientific Review; Cancellation of Meeting

Notice is hereby given of the cancellation of the Neurotechnology Study Section, June 3, 2008, 8 a.m. to June 4, 2008, 5 p.m., Grand Hyatt, 345 Stockton Street, San Francisco, CA 94108 which was published in the Federal Register on May 15, 2008, 73 FR 28121-28122.

The meeting was cancelled due to a lack of quorum.

Dated: May 20, 2008.
Jennifer Spaeth,
Director, Office of Federal Advisory Committee Policy.

[FR Doc. E8-11789 Filed 5-28-08; 8:45 am]

BILLING CODE 4140-01-M